ENVIRONMENTAL PROTECTION AGENCY

40 CFR Part 80

Gasoline Volatility Standard for the Denver/Boulder Area

CFR Correction

In Title 40 of the Code of Federal Regulations, Parts 72 to 80, revised as of July 1, 2003, in § 80.27, in the table in paragraph (a)(2), the entry for Colorado and footnote 2 are correctly reinstated to read as follows:

§ 80.27 Controls and prohibitions on gasoline volatility.

(a) * * *

(2) * * *

Applicable Standards ¹ 1992 and Subsequent Years
State | May | June | July | August | September
* * * * * * *
Colorado ² | 9.0 | 7.8 | 7.8 | 7.8 | 7.8
* * * * * * *
¹ Standards are expressed in pounds per square inch (psi).
² The standard for 1992 through 2001 in the Denver-Boulder area designated nonattainment for the 1-hour ozone NAAQS in 1991 (see 40 CFR 81.306) will be 9.0 for June 1 through September 15.

* * * * *

[FR Doc. 04-55504 Filed 4-5-04; 8:45 am]

BILLING CODE 1505-01-D